NATIONAL SCIENCE FOUNDATION

Notice of Intent To Seek Approval To Renew With Changes an Information Collection

AGENCY: National Science Foundation.

ACTION: Notice and request for comments.

SUMMARY: The National Science Foundation (NSF) is announcing plans to request establishment and clearance of this collection. In accordance with the requirements of the Paperwork Reduction Act of 1995, we are providing opportunity for public comment on this action. After obtaining and considering public comment, NSF will prepare the submission requesting that OMB approve clearance of this collection for no longer than three years.

DATES: Written comments on this notice must be received by January 21, 2025 to be assured of consideration. Comments received after that date will be considered to the extent practicable.

FOR FURTHER INFORMATION CONTACT: Suzanne H. Plimpton, Reports Clearance Officer, National Science Foundation, 2415 Eisenhower Avenue, Alexandria, Virginia 22314; or send email to splimpto@nsf.gov. Individuals who use a telecommunications device for the deaf (TDD) may call the Federal Information Relay Service (FIRS) at 1-800-877-8339, which is accessible 24 hours a day, 7 days a week, 365 days a year (including federal holidays).

Instructions: Please submit one copy of your comments by only one method. All submissions received must include the agency name and collection name identified above for this information collection. Commenters are strongly encouraged to transmit their comments electronically via email. Comments, including any personal information provided become a matter of public record. They will be summarized and/or included in the request for Office of Management and Budget approval of the information collection request.

SUPPLEMENTARY INFORMATION:

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; (d) ways to minimize the burden of the collection of information on those who are to respond, including through the use of appropriate automated, electronic, mechanical, or other technological collection techniques or other forms of information technology.

Title of Collection: National Science Foundation's Education and Training Application.

OMB Number: 3145-0248.

Expiration Date of Approval: November 30, 2024.

Abstract: The U.S. National Science Foundation Education & Training Application (NSF ETAP) is a customizable, common application system designed to connect individuals—such as students and educators—with NSF-funded education and training opportunities. ETAP enables the NSF to gather high-quality data for monitoring, targeted research, and evaluations of its programs. The system enhances the agency's ability to address key priorities, such as those outlined in the CHIPS and Science Act of 2022 (Pub. L. 117-167), which calls for new investments in STEM education while building a knowledge base on effective models for recruiting and retaining students in STEM fields.

A new system of records, NSF-80, titled Education and Training Application Data System (ETAP), was published in the Federal Register in October 2023 and contains records from this system.

ETAP is designed to collect data on applicants and participants in NSF-funded opportunities, thereby reducing the burden on Principal Investigators (PIs) and applicants while enhancing NSF's ability to monitor its education and workforce development programs and conduct evaluations of their impact. PIs of NSF awards can use the ETAP system to recruit prospective participants for a variety of NSF-funded opportunities, including research experiences, fellowships, scholarships, internships, teaching assistantships, dissertation grants, summer boot camps, and more. The centralized platform provided by ETAP allows potential applicants to easily discover and apply for these NSF-funded programs aimed at STEM professional development and growth.

The data collected through the system typically falls into three categories: (1) opportunity information (provided by PIs creating opportunities for applicants), (2) application information (provided by applicants applying for NSF-funded opportunities), and (3) admissions decisions and participation (provided by PIs confirming participants funded through NSF award funds). In addition to the information collected via the ETAP system, other collections are necessary for continuous improvement and outcome tracking: (1) usability and satisfaction feedback (to gather input for planning and assessing system enhancements), and (2) tracking educational outcomes (to obtain educational outcomes from administrative data from the National Student Clearinghouse, posing no burden to participants or PIs).

Estimate of Burden: We estimate that PIs (or their designated users) will spend an average of 4.7 hours using the system to set up and manage applications for their opportunities. PIs can determine whether applications to their opportunities are competitive; we estimate that 75% of opportunities will have competitive applications. For individuals applying for non-competitive opportunities, we estimate a time commitment of 3.25 hours to submit information through the ETAP system. For competitive opportunities (which often require additional materials, such as a statement of purpose), this estimate increases to 7 hours. Additionally, we estimate that individuals writing letters of reference will spend approximately 0.5 hours drafting these letters in support of an applicant.

Respondents: Individuals engaged in opportunities funded by NSF.

Estimated Annual Number of Respondents: 103,239.

Estimated Annual Burden on Respondents: 271,736 hours.

Frequency of Responses: Three rounds of data collection.

Dated: November 18, 2024.
Suzanne H. Plimpton,
Reports Clearance Officer, National Science Foundation.

[FR Doc. 2024-27353 Filed 11-21-24; 8:45 am]

BILLING CODE 7555-01-P